DEPARTMENT OF COMMERCE

Submission for OMB Review; Comment Request

DOC has submitted to the Office of Management and Budget (OMB) for clearance the following proposal for collection of information under the provisions of the Paperwork Reduction Act (44 U.S.C. chapter 35).

Agency: Census Bureau.

Title: Current Retail Sales and Inventory Survey.

Form Number(s): SM-44(00)S, SM-44(00)SE, SM-44(00)SS, SM-44(00)B, SM-44(00)BE, SM-44(00)BS, SM-44(00)L, SM-44(00)LE, SM-44(00)LS, SM-45(00)S, SM-45(00)SE, SM-45(00)SS, SM-45(00)B, SM-45(00)BE, SM-45(00)BS, SM-72(00)S, SM-20(00)I, SM-20(00)L-Replacing B-101(97)S, B-101(97)B, B-111(97)S, B-111(97)B, B-111(97)L, B-113(97)I, B-113(97)L.

Agency Approval Number: 0607-0717.

Type of Request: Revision of a currently approved collection.

Burden: 14,761 hours.

Number of Respondents: 9,417.

Avg Hours Per Response: 8 minutes.

Needs and Uses: The Current Retail Sales and Inventory Survey provides estimates of monthly retail sales, end-of-month merchandise inventories, and quarterly e-commerce sales of retailers in the United States by selected kinds of business. Also, it provides monthly sales of food service establishments. The Bureau of Economic Analysis (BEA) uses this information to prepare the National Income and Products Accounts and to benchmark the annual input-output tables. Statistics provided from the Current Retail Sales and Inventory Survey are used to calculate the gross domestic product (GDP).

Estimates produced from the Current Retail Sales and Inventory Survey are based on a probability sample. The sample design consists of one fixed panel where all cases are requested to report sales and/or inventories each month.

As of April 2001 (June data month), we started publishing retail sales and inventory estimates on the North American Industry Classification System (NAICS). Prior to that period, estimates were published on the Standard Industrial Classification (SIC) basis. As a result of NAICS, we will continue to collect monthly sales on food services and publish a retail trade and food services total in addition to a retail trade total. NAICS provides a better way to classify individual businesses, and is widely adopted throughout both the public and private sectors. NAICS is more relevant as it identifies more industries that contribute to today's growing economy. NAICS was developed by the United States, Canada, and Mexico in order to produce comparable data between neighboring countries.

In 2000, we redesigned our current retail forms to incorporate a new series of form numbers, and to include the e-commerce screening or data request as a separate item. The content of the forms did not change; therefore there was no change in reporting burden.

Affected Public: Businesses or other for-profit.

Frequency: Monthly.

Respondent's Obligation: Voluntary.

Legal Authority: Title 13 U.S.C., Section 182.

OMB Desk Officer: Susan Schechter, (202) 395-5103.

Copies of the above information collection proposal can be obtained by calling or writing Madeleine Clayton, Departmental Paperwork Clearance Officer, (202)482-3129, Department of Commerce, room 6608, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: April 26, 2002.
Madeleine Clayton,
Departmental Paperwork Clearance Officer, Office of the Chief Information Officer.

[FR Doc. 02-10720 Filed 4-30-02; 8:45 am]

BILLING CODE 3510-07-P